DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before February 13, 2023.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on January 9, 2023.
Donald P. Burger,
Chief, General Approvals and Permits Branch.

Special Permits Data
Application No. | Applicant | Regulation(s) affected | Nature of the special permits thereof
21487-N | Ford Motor Company | 172.101(j) | To authorize the transportation in commerce of lithium batteries greater than 35 kg net weight aboard cargo-only aircraft. (mode 4)
21488-N | American Labelmark Company Inc | 173.13(a), 173.13(b), 173.13(b)(3), 173.13(c)(1)(ii), 173.13(c)(1)(iv), 173.13(c)(2)(iii), 173.27(d) | To authorize the manufacture, mark, sale, and use of the specially designed combination packagings for transportation in commerce of the materials listed in paragraph 6 without hazard labels or placards. (modes 1, 2, 4, 5)
21489-N | Stericycle, Inc |  | To authorize the transportation in commerce of certain materials authorized to be disposed of under 21 CFR Part 1317, Subpart B. (modes 1, 3, 4)
21490-N | Rite, Inc | 173.28(b)(2), 178.509(b)(7), 178.601(h) | To authorize the manufacture, mark, sale, and use of jerricans manufactured to a specification not meeting all the requirements for UN 3H1 specification jerricans. (modes 1, 2)
21491-N | Hanwha Cimarron LLC | 173.302(a) | To authorize the manufacture, mark, sale, and use of a non-DOT specification fully wrapped carbon fiber reinforced composite cylinder with a non-load sharing plastic liner for the purpose of transporting certain non-liquefied compressed gases in commerce. This cylinder meets all of the requirements of the ISO 11515 Standard. (modes 1, 2, 3)
21493-N | K&M Transportation Services, LLC | 173.196(a), 173.199(a) | To authorize the transportation in commerce of certain infectious substances in alternative packagings (freezers). (mode 1)
21497-N | Promega Corporation | 178.602(b) | To authorize the transportation in commerce of certain hazardous materials in UN specification packages where the inner receptacle are not filled to 98% during the stack and drop tests. (modes 1, 2, 3, 4, 5)

[FR Doc. 2023-00603 Filed 1-12-23; 8:45 am]

BILLING CODE P